SMALL BUSINESS ADMINISTRATION

[Disaster Declaration # 10256 and # 10257]

Massachusetts Disaster # MA-00003

AGENCY: U.S. Small Business Administration.

ACTION: Notice.

SUMMARY: This is a Notice of the Presidential declaration of a major disaster for the State of Massachusetts (FEMA-1614-DR), dated 11/10/2005.

Incident: Severe Storms and Flooding.

Incident Period: 10/07/2005 through 10/16/2005.

Effective Date: 11/10/2005.

Physical Loan Application Deadline Date: 01/09/2006.

Economic Injury (EIDL) Loan Application Deadline Date: 08/10/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 11/10/2005, applications for disaster loans may be filed at the address listed above or other locally announced locations.

The following areas have been determined to be adversely affected by the disaster:

Primary Counties (Physical Damage and Economic Injury): Berkshire, Bristol, Franklin, Hampden, Hampshire, Middlesex, Norfolk, Plymouth, Worcester.

Contiguous Counties (Economic Injury Only):

Massachusetts: Barnstable, Essex, Suffolk.

Connecticut: Hartford, Litchfield, Tolland, Windham.

New Hampshire: Cheshire, Hillsborough.

New York: Columbia, Dutchess, Rennselaer.

Rhode Island: Bristol, Newport, Providence.

Vermont: Bennington, Windham.

The Interest Rates are:

For Physical Damage:

Homeowners With Credit Available Elsewhere: 5.375.

Homeowners With Credit Available Elsewhere: 2.687.

Businesses With Credit Available Elsewhere: 6.557.

Businesses and Non-Profit Organizations Without Credit Available Elsewhere: 4.000.

Other (Including Non-Profit Organizations) With Credit Available Elsewhere: 4.750.

For Economic Injury:

Businesses and Small Agricultural Cooperatives Without Credit Available Elsewhere: 4.000.

The number assigned to this disaster for physical damage is 102566 and for economic injury is 102570.

(Catalog of Federal Domestic Assistance Numbers 59002 and 59008)

Herbert L. Mitchell,
Associate Administrator for Disaster Assistance.

[FR Doc. E5-6544 Filed 11-25-05; 8:45 am]

BILLING CODE 8025-01-P